NATIONAL SCIENCE FOUNDATION

Advisory Committee for International Science & Engineering; Notice of Meeting

In accordance with Federal Advisory Committee Act (Pub. L. 92-463, as amended), the National Science Foundation announces the following meeting:

Name: Advisory Committee for International Science and Engineering (#25104).

Date/Time: September 20, 2010; 9 a.m. to 5:15 p.m.; September 21, 2009; 8:30 a.m. to 12 p.m.

Place: National Science Foundation, 4201 Wilson Boulevard, Stafford II, Room 595, Arlington, VA 22230.

Type of Meeting: Open.

Contact Person: Robert E. Webber, National Science Foundation, 4201 Wilson Boulevard, Arlington, VA 22230 (703) 292-7569.

If you are attending the meeting and need access to the NSF, please contact the individual listed above so your name may be added to the building access list.

Purpose of Meeting: To provide advice, recommendations, and oversight concerning support for research, education and related activities involving U.S. science and engineering working within a global context, as well as strategic efforts to promote a more effective NSF role in international science and engineering.

Agenda

September 20, 2010

Update of 2010 activities.

Working Groups discussions.

Invited presentations.

September 21, 2009

Discussion with NSF International Coordinating Committee.

Conversation with NSF Acting Director.

Planning for the next meeting.

Dated: August 24, 2010.
Susanne Bolton,
Committee Management Officer.

[FR Doc. 2010-21437 Filed 8-27-10; 8:45 am]

BILLING CODE 7555-01-P